DEPARTMENT OF LABOR

Employment and Training Administration

20 CFR Part 655

RIN 1205-AB27

Attestations by Facilities Temporarily Employing H-1C Nonimmigrant Aliens as Registered Nurses

AGENCY: Employment and Training Administration, Labor, in concurrence with the Wage and Hour Division, Employment Standards Administration, Labor.

ACTION: Interim final rule; compliance with information and recordkeeping requirements.

SUMMARY: The Employment and Training Administration (ETA) and the Employment Standards Administration (ESA) of the Department of Labor (DOL or Department) are announcing that a collection of information has been approved by the Office of Management and Budget (OMB) under the Paperwork Reduction Act of 1995 for the Interim Final Rule (IFR) for Attestations by Facilities Temporarily Employing H-1C Nonimmigrant Aliens as Registered Nurses. This notice announces the OMB approval number and expiration date.

DATES:

Effective Date: The interim rule published at 65 FR 51138 continues to be effective September 21, 2000.

Compliance Date: Affected parties must comply with the information and recordkeeping requirements in §§ 655.1101(b), (c) and (f); 655.1110; 655.1111(e); 655.1112(c)(2) and (4); 655.1113(d); 655.1114(e); 655.1115(b) and (d); 655.1116; 655.1117(b); 655.1150(b), and 655.1205(b), which have been approved by the Office of Management and Budget, as of September 21, 2000.

FOR FURTHER INFORMATION CONTACT: Michael Ginley, Director, Office of Enforcement Policy, Wage and Hour Division, U.S. Department of Labor, Room S-3510, 200 Constitution Avenue, NW., Washington, DC 20210, Telephone: 202-693-0071 (this is not a toll-free number); Dale Ziegler, Chief, Division of Foreign Labor Certifications, Office of Workforce Security, Employment and Training Administration, U.S. Department of Labor, Room C-4318, 200 Constitution Avenue, NW., Washington, DC 20210, Telephone: 202-693-3010 (this is not a toll-free number).

SUPPLEMENTARY INFORMATION: On August 22, 2000, ETA and ESA jointly published an IFR governing the filing and enforcement of attestations by facilities seeking to employ aliens as registered nurses in health professional shortage areas on a temporary basis under H-1C visas. The Department submitted the information collection request included in the IFR to OMB using emergency procedures and requested approval by the effective date of the IFR which is September 21, 2000 (65 FR 51138). The information and recordkeeping requirements needing OMB approval are found in §§ 655.1101(b), (c) and (f); 655.1110; 655.1111(e); 655.1112(c) (2) and (4); 655.1113(d); 655.1114(e); 655.111(b) and (d); 655.1116; 655.1117(b); 655.1150(b) and 655.1205(b).

On September 14, 2000, OMB approved the information collection request under emergency provisions of the Paperwork Reduction Act of 1995 (44 U.S.C. 3501 et seq) and 5 CFR 1320. The control number assigned to this information collection request by OMB is 1205-0415. The approval will expire on February 28, 2001.

Signed at Washington, DC, this 15th day of September, 2000.
Raymond Bramucci,
Assistant Secretary for Employment and Training, Employment and Training Administration.
John R. Fraser,
Deputy Administrator, Wage and Hour Division, Employment Standards Administration.

[FR Doc. 00-24252 Filed 9-20-00; 8:45 am]

BILLING CODE 4510-30-M